COUNCIL ON ENVIRONMENTAL QUALITY

Final Guidance, “Federal Greenhouse Gas Accounting and Reporting”

AGENCY: Council on Environmental Quality.

ACTION: Notice of availability of Final Guidance.

SUMMARY: On October 5, 2009, President Obama signed Executive Order 13514 (“Executive Order” or “E.O. 13514”), entitled “Federal Leadership in Environmental, Energy, and Economic Performance.” 74 FR 52117, Oct. 8, 2009. The purpose of the Executive Order is to establish an integrated strategy toward sustainability in the Federal Government and to make reduction of greenhouse gas (GHG) emissions a priority for Federal agencies. Among other provisions, E.O. 13514 requires agencies to measure, report, and reduce their GHG emissions. It also requires the Chair of the Council on Environmental Quality (CEQ) to issue guidance establishing government-wide requirements for Federal agencies in calculating and reporting GHG emissions associated with agency operations. This Final Guidance, “Federal Greenhouse Gas Accounting and Reporting,” is available as of October 6, 2010 at: http://www.whitehouse.gov/administration/eop/ceq/sustainability/fed-ghg.

DATES: The Final Guidance, “Federal Greenhouse Gas Accounting and Reporting” is available as of October 6, 2010.

ADDRESSES: The Final Guidance, “Federal Greenhouse Gas Accounting and Reporting” documents are available at: http://www.whitehouse.gov/administration/eop/ceq/sustainability/fed-ghg.

FOR FURTHER INFORMATION CONTACT: Leslie Gillespie-Marthaler, Senior Program Manager, Office of the Federal Environmental Executive (OFEE) at (202) 456-5117.

SUPPLEMENTARY INFORMATION: Federal agencies are required, under Section 2(c) of E.O. 13514, to establish and report to the CEQ Chair and OMB Director a comprehensive inventory of absolute GHG emissions, including scope 1, scope 2, and specified scope 3 emissions for fiscal year 2010, and thereafter, annually. The Final Guidance, “Federal Greenhouse Gas Accounting and Reporting” establishes government-wide requirements for Federal agencies in calculating and reporting GHG emissions associated with agency operations. The Final Guidance is accompanied by a separate Draft Technical Support Document for Federal GHG Accounting and Reporting (TSD), which provides detailed information on Federal inventory reporting requirements and calculation methodologies.

Section 9(a) of E.O. 13514 directed the Department of Energy's Federal Energy Management Program (FEMP), in coordination with the Environmental Protection Agency, Department of Defense, General Services Administration, Department of the Interior, Department of Commerce, and other agencies as appropriate, to develop recommended Federal GHG reporting and accounting procedures. These recommendations established the foundation for Federal guidance.

The Chair, Council on Environmental Quality is required, under Section 5(a) of E.O. 13514, to issue guidance for Federal agency greenhouse gas (GHG) accounting and reporting. CEQ provided the draft guidance for public review and comment from July 1, 2010 to September 1, 2010. Those comments can be viewed on the CEQ Web site at http://www.whitehouse.gov/administration/eop/ceq/sustainability/fed-ghg/view-comments. CEQ is committed to open government principles and leading by example to ensure that the Federal Government is transparent in its processes for accounting and reporting of Federal GHG emissions.

The Federal Government seeks to continually improve both the quality of data and methods necessary for calculating GHG emissions. Over time, additional requirements, methodologies, and procedures will be included in revisions to this document and supporting documents to improve the Federal Government's overall ability to accurately account for and report GHG emissions.

Dated: October 12, 2010.
Nancy H. Sutley,
Chair, Council on Environmental Quality.

[FR Doc. 2010-26139 Filed 10-15-10; 8:45 am]

BILLING CODE 3125-W0-P